OFFICE OF PERSONNEL MANAGEMENT

Submission for Review: Federal Annuitant Benefits Survey

AGENCY: U.S. Office of Personnel Management.

ACTION: 60-Day Notice and request for comments.

SUMMARY: The Office of Planning and Policy Analysis, Office of Personnel Management (OPM) offers the general public and other Federal agencies the opportunity to comment on a new information collection request (ICR) 3206-NEW, the Federal Annuitant Benefits Survey. As required by the Paperwork Reduction Act of 1995, (Pub. L. 104-13, 44 U.S.C. chapter 35) as amended by the Clinger-Cohen Act (Pub. L. 104-106), OPM is soliciting comments for this collection.

DATES: Comments are encouraged and will be accepted until August 10, 2015. This process is conducted in accordance with 5 CFR 1320.1.

ADDRESSES: Interested persons are invited to submit written comments on the proposed information collection to the Office of Planning and Policy Analysis, Office of Personnel Management, 1900 E. Street NW., Washington, DC 20415, Attention: Cristin Kane or sent by email to cristin.kane@opm.gov.

FOR FURTHER INFORMATION CONTACT: A copy of this ICR, with applicable supporting documentation, may be obtained by contacting the Office of Planning and Policy Analysis, Office of Personnel Management, 1900 E. Street NW., Washington, DC 20415, Attention: Cristin Kane or sent by email to cristin.kane@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Overview: In the past, the Office of Personnel Management contracted with a vendor to administer the Consumer Assessment of Healthcare Providers and Systems (CAHPS) survey to a sample of both active Federal employees and retirees. CAHPS surveys ask consumers and patients to report on and evaluate their experiences with their health care. Since the CAHPS survey instrument is designed for the active population, it will no longer be administered to retirees. However, annuitant feedback about their health plan experience is an essential part of successful benefit administration for the Federal Employees Health Benefits (FEHB) Program. As a result, the Federal Annuitant Benefits Survey is designed to replicate CAHPS questions in order to assess annuitant satisfaction with their health plan's benefits and services. It will inform the Office of Personnel Management's Healthcare and Insurance contracting officers regarding plan performance.

Analysis

Agency: Planning and Policy Analysis, Office of Personnel Management.

Title: Federal Annuitant Benefits Survey.

OMB Number: 3260-NEW.

Frequency: Annually.

Affected Public: Federal Retirees.

Number of Respondents: Unknown at this time, as survey will be administered via “open participation.” No firm sample size exists; however, target completion is between 200 and 1,000 surveys.

Estimated Time Per Respondent: 20 minutes.

Total Burden Hours: Dependent on final participation numbers.

U.S. Office of Personnel Management.
Katherine Archuleta,
Director.

[FR Doc. 2015-14221 Filed 6-9-15; 8:45 am]

BILLING CODE 6325-63-P